DEPARTMENT OF TRANSPORTATION

Federal Highway Administration

Supplemental Environmental Impact Statement; Kittitas County, WA

AGENCY: Federal Highway Administration (FHWA), DOT.

ACTION: Notice of Intent.

SUMMARY: The FHWA is issuing this notice to advise the public that a limited scope supplemental environmental impact statement (EIS) will be prepared for a proposed design change to an interstate highway improvement project in western Kittitas County, Washington.

FOR FURTHER INFORMATION CONTACT: Liana Liu, Area Engineer, South Central Region, Federal Highway Administration, 711 South Capital Way, Suite 501, Olympia, WA 98501-0943, telephone: (360) 753-9553; or Jason Smith, Environmental Manager, South Central Region, Washington State Department of Transportation, P.O. Box 12560, Yakima, WA 98909, telephone: (509) 577-1750.

SUPPLEMENTARY INFORMATION: FHWA, in cooperation with the Washington State Department of Transportation (WSDOT), prepared a Draft EIS (FHWA-WA-EIS-05-01-D approved May 23, 2005) and Final EIS (FHWA-WA-EIS-05-01-F approved July 31, 2008) for proposed improvements to a 15 mile portion of Interstate 90 (I-90) immediately east of Snoqualmie Pass in the Cascade Mountains, from Hyak at Milepost 55.1 (MP 55.1) to Easton Hill at MP 70.3. Consistent with National Environmental Policy Act (NEPA) regulations, the Forest Service (Department of Agriculture) and Bureau of Reclamation (Department of Interior) were cooperating agencies in preparing the EISs. Following the Record of Decision by FHWA and the cooperating agencies, WSDOT designed a series of construction projects which start at Hyak and proceed eastward.

The contractor selected to construct the portion of the project from MP 57.34 to MP 60.23 along Keechelus Lake proposes a design change that meets the purpose and need for the highway improvements while reducing maintenance and operation costs. FHWA and WSDOT re-evaluated the NEPA analysis and documents for the I-90 improvements and determined that a Supplemental EIS (SEIS) is needed for this proposed change. The cooperating agencies concurred with this conclusion, and they will cooperate in preparing the SEIS.

The scope of the SEIS is limited to the social, economic, and environmental effects of constructing and operating a bridge instead of a snowshed at MP 58.15 to meet avalanche protection and control needs in an area where I-90 currently experiences road closures in winter for avalanche control. Since issues and concerns related to the I-90 improvements are well known from the extensive public involvement previously conducted as part of the original Draft and Final EIS, formal scoping will not be conducted.

The proposed design change and associated SEIS will be incorporated into the ongoing series of communications and meetings that keep agencies, tribes, organizations, and individuals informed on the I-90 improvements. Written and verbal comments on the Draft SEIS will be taken by mail, on the project Web site, and at hearings. Public notice will be given on the time and place of the future open houses.

Questions concerning this proposed design change and the SEIS should be directed to both Liana Liu (FHWA) and Jason Smith (WSDOT) at the addresses or phone numbers provided above.

(Catalog of Federal Domestic Assistance Program No. 20.205, Highway Research, Planning and Construction. The regulations implementing Executive Order 12372 regarding intergovernmental consultation on Federal programs and activities apply to this program.)

Issued on: March 6, 2012.
Daniel Mathis,
Division Administrator, Olympia, Washington.

[FR Doc. 2012-5865 Filed 3-9-12; 8:45 am]

BILLING CODE 4910-22-P